DEPARTMENT OF TRANSPORTATION

Surface Transportation Board

Agency Information Collection Activities; Proposals, Submissions, and Approvals

AGENCY: Surface Transportation Board.

ACTION: 30-day notice that seven existing collections from Class I Railroads are under review by the Office of Management and Budget (OMB), and request for comments: Class I Railroad Annual Report; Quarterly Report of Revenues, Expenses, and Income—Railroads; Quarterly Condensed Balance Sheet—Railroads; Report of Railroad Employees, Service, and Compensation; Monthly Report of Number of Employees of Class I Railroads; Annual Report of Cars Loaded and Cars Terminated; and Quarterly Report of Freight Commodity Statistics.

SUMMARY: The Surface Transportation Board (Board) gives notice that the Board has submitted to OMB a request for review and clearance of the seven existing collections listed above, in accordance with the Paperwork Reduction Act of 1995, 44 U.S.C. 3501 et seq. (PRA). For the most part, these collections continue current Board reporting requirements without revision. As described below, a minor revision has been made to Collection No.1, Class I Railroad Annual Report. OMB control numbers were obtained in the past, but have expired, for six of the seven information collections that are the subject of this request. The Board previously published a notice about these collections in the Federal Register on May 19, 2005 at 70 FR 28979. That notice allowed for a 60-day public review and comment period. No comments were received.

The purpose of the current notice is to allow an additional 30 days for public comment to satisfy the requirements of the PRA, 44 U.S.C. 3507(b). Comments are requested concerning each collection as to (1) whether the particular collection of information described below is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be considered by OMB prior to approval of the proposed collection.

DATES: Written comments are due by December 15, 2005.

ADDRESSES: Written comments should be identified as “Paperwork Reduction Act Comments, Surface Transportation Board, and should refer to the title of the specific collection(s) commented upon. These comments should be directed to the Office of Management and Budget, Office of Information and Regulatory Affairs, Attention: Surface Transportation Board Desk Officer, Room 10235, 725 17th Street, NW., Washington, DC 20503.

FOR FURTHER INFORMATION CONTACT: For additional information or copies of the information collection(s) contact Scott Decker, (202) 565-1531. [Federal Information Relay Service (FIRS) for the hearing impaired: (800) 877-8339.]

Subjects: In this notice the Board is requesting comments on the following information collections:

Collection Number 1

Title: Class I Railroad Annual Report.

OMB Control Number: 2140-0009.

Form Number: R1.

Type of Review: Reinstatement, with change, of a previously approved collection for which OMB control number has expired.

Respondents: Class I railroads.

Number of Respondents: Fewer than 10.

Revision: Schedule 755 of the Surface Transportation Board's Class I Railroad Annual Report (ACAA-R1) is being modified to include reporting of TOFC/COFC intermodal load factors. The new item is required to support the more accurate calculation of intermodal shipment costs. These cost estimates are used by the Surface Transportation Board when making determinations of market dominance in rail rate proceedings and when evaluating evidence submitted by parties in those proceedings. See 49 U.S.C. 10707. The collection of this information is authorized by section 11145 of the ICC Termination Act of 1995, Public Law 104-88, 109 Stat. 803 (1995), and codified at 49 U.S.C. 11145.

Estimated Time Per Response: 800 hours, based on information provided by the railroad industry during the 1990's. This estimate includes time spent reviewing instructions; searching existing data sources; gathering and maintaining the data needed; completing and reviewing the collection of information; and converting the data from the carrier's individual accounting system to the Board's Uniform System of Accounts (USOA), which ensures that the information will be presented in a consistent format across all reporting railroads, see 49 U.S.C. 11141-43, 11161-64, 49 CFR 1200-1201. It is possible that the time required to produce this report is overstated, given the advances made in computerized data collection and processing systems.

Frequency of Response: Annual.

Total Annual Hour Burden: 5,600 hours annually.

Total Annual “Non-Hour Burden” Cost: No “non-hour cost” burdens associated with this collection have been identified.

Needs and Uses: Annual reports are required to be filed by Class I railroads under 49 U.S.C. 11145. The reports show operating expenses and operating statistics of the carriers. Operating expenses include costs for right-of-way and structures, equipment, train and yard operations, and general and administrative expenses. Operating statistics include such items as car-miles, revenue ton-miles, and gross ton-miles. The reports are used by the Board, other Federal agencies, and industry groups to monitor and assess railroad industry growth, financial stability, traffic, and operations, and to identify industry changes that may affect national transportation policy. Information from this report is also entered into the Board's Uniform Rail Costing System (URCS), which is a cost measurement methodology. URCS, which was developed by the Board pursuant to 49 U.S.C. 11161, is used as a tool in rail rate proceedings, in accordance with 49 U.S.C. 10707(d), to calculate the variable costs associated with providing a particular service. The Board also uses this information to more effectively carry out other of its regulatory responsibilities, including: Acting on railroad requests for authority to engage in Board-regulated financial transactions such as mergers, acquisitions of control, and consolidations, see 49 U.S.C. 11323-11324; analyzing the information that the Board obtains through the annual railroad industry waybill sample, see 49 CFR 1244; measuring off-branch costs in railroad abandonment proceedings, in accordance with 49 CFR 1152.32(n); developing rail cost adjustment factors, in accordance with 49 U.S.C. 10708; and conducting investigations and rulemakings.

Information from certain schedules contained in these reports is compiled and published on the Board's Web site, http://www.stb.dot.gov. Information in these reports is not available from any other source.

Collection Number 2

Title: Quarterly Report of Revenues, Expenses, and Income—Railroads (Form RE&I).

OMB Control Number: 2140-__ (prior number under the Interstate Commerce Commission (ICC): 3120-0027).

Form Number: None.

Type of Review: Reinstatement, without change, of a previously approved collection for which OMB control number has expired.

Respondents: Class I railroads.

Number of Respondents: Fewer than 10.

Estimated Time per Response: 6 hours.

Frequency of Response: Quarterly.

Total Annual Hour Burden: 168 hours annually.

Total Annual “Non Hour Burden” Cost: No “non-hour cost” burdens associated with this collection have been identified.

Needs and Uses: This collection is a report of railroad operating revenues, operating expenses and income items; it is a profit and loss statement, disclosing net railway operating income on a quarterly and year-to-date basis for the current and prior years. See 49 CFR 1243.1. The Board uses the information in this report to ensure competitive, efficient, and safe transportation through general oversight programs that monitor and forecast the financial and operating condition of railroads, and through regulation of railroad rate and service issues and rail restructuring proposals, including railroad mergers, consolidations, acquisitions of control, and abandonments. Information from these reports is used by the Board, other Federal agencies, and industry groups to monitor and assess industry growth and operations, detect changes in carrier financial stability, and identify trends that may affect the national transportation system. Information from these reports is compiled by the Board and published on its Web site, http://www.stb.dot.gov. The information contained in these reports is not available from any other source.

Collection Number 3

Title: Quarterly Condensed Balance Sheet—Railroads (Form CBS).

OMB Control Number: 2140-__ (prior number under ICC: 3120-0063).

Form Number: None.

Type of Review: Reinstatement, without change, of a previously approved collection for which OMB control number has expired.

Respondents: Class I railroads.

Number of Respondents: Fewer than 10.

Estimated Time per Response: 6 hours.

Frequency of Response: Quarterly.

Total Annual Hour Burden: 168 hours annually.

Total Annual “Non-Hour Burden” Cost: No “non-hour cost” burdens associated with this collection have been identified.

Needs and Uses: This collection shows the balance, quarterly and cumulative for the current and prior year, of the carrier's assets and liabilities, gross capital expenditures, and revenue tons carried. See 49 CFR 1243.2. The Board uses the information in this report to ensure competitive, efficient, and safe transportation through general oversight programs that monitor and forecast the financial and operating condition of railroads, and through specific regulation of railroad rate and service issues and rail restructuring proposals, including railroad mergers, consolidations, acquisitions of control, and abandonments. Information from these reports is used by the Board, other Federal agencies, and industry groups to assess industry growth and operations, detect changes in carrier financial stability, and identify trends that may affect the national transportation system. Information from these reports is compiled by the Board and published on its Web site, http://www.stb.dot.gov. The information contained in these reports is not available from any other source.

Collection Number 4

OMB Control Number: 2140-__ (prior number under ICC: 3120-0074).

Title: Report of Railroad Employees, Service and Compensation (Wage Forms A and B.)

Form Number: None.

Type of Review: Reinstatement, without change, of a previously approved collection for which OMB control number has expired.

Respondents: Class I railroads.

Number of Respondents: Fewer than 10.

Estimated Time per Response: 30 hours per quarterly report and 40 hours per annual summation, based on information provided by the railroad industry during the 1990's. It is possible that the time required to collect this information is overstated given the advances made in computerized data collection and processing systems.

Frequency of Response: Quarterly, with an annual summation.

Total Annual Hour Burden: 1120 hours annually.

Total Annual “Non-Hour Burden” Cost: No “non-hour cost” burdens associated with this collection have been identified.

Needs and Uses: This collection shows the number of employees, service hours, and compensation, by employee group (e.g., executive, professional, maintenance-of-way and equipment, and transportation), of the reporting railroads. See 49 CFR 1245. The information is used by the Board to forecast labor costs and measure the efficiency of the reporting railroads. The information is also used by the Board to evaluate proposed regulated transactions that may impact rail employees, including mergers and consolidations, acquisitions of control, purchases, and abandonments. Other Federal agencies and industry groups, including the Railroad Retirement Board, Bureau of Labor Statistics, and Association of American Railroads, use the information contained in the reports to monitor railroad operations. Certain information from these reports is compiled and published on the Board's Web site, http://www.stb.dot.gov. The information contained in these reports is not available from any other source.

Collection Number 5

Title: Monthly Report of Number of Employees of Class I Railroads (Wage Form C).

OMB Control Number: 2140-__ (prior number under ICC: 3120-0133).

Form Number: STB Form 350.

Type of Review: Reinstatement, without change, of a previously approved collection for which OMB control number has expired.

Respondents: Class I railroads.

Number of Respondents: Fewer than 10.

Estimated Time per Response: 1.25 hours.

Frequency of Response: Monthly.

Total Annual Hour Burden: 105 hours annually.

Total Annual “Non-Hour Burden” Cost: No “non-hour cost” burdens associated with this collection have been identified.

Needs and Uses: This collection shows, for each reporting carrier, the average number of employees at mid-month in the six job classification groups that encompass all railroad employees. See 49 CFR 1246. The information is used by the Board to forecast labor costs and measure the efficiency of the reporting railroads. The information is also used by the Board to evaluate the impact on rail employees of proposed regulated transactions, including mergers and consolidations, acquisitions of control, purchases, and abandonments. Other Federal agencies and industry groups, including the Railroad Retirement Board, Bureau of Labor Statistics, and Association of American Railroads, use the information contained in these reports to monitor railroad operations. Certain information from these reports is compiled and published on the Board's Web site, http://www.stb.dot.gov. The information contained in these reports is not available from any other source.

Collection Number 6

Title: Annual Report of Cars Loaded and Cars Terminated.

OMB Control Number: 2140-__.

Form Number: Form STB-54.

Type of Review: Existing collection in use without an OMB control number.

Respondents: Class I railroads.

Number of Respondents: Fewer than 10.

Estimated Time per Response: 4 hours.

Frequency of Response: Annual.

Total Annual Hour Burden: 28 hours annually.

Total Annual “Non Hour Burden” Cost: No “non-hour cost” burdens associated with this collection have been identified.

Needs and Uses: This collection reports the number of cars loaded and cars terminated on the reporting carrier's line. See 49 CFR 1247. Information in this report is entered into the Board's URCS, the uses of which are explained under Collection Number 1. This collection was authorized in Modification of Class I Reporting Regulations, STB Ex Parte No. 583 (STB served Jan. 5, 2001); 66 FR 1051-01 (2001). There is no other source for the information contained in this report.

Collection Number 7

OMB Control Number: 2140-0001.

Title: Quarterly Report of Freight Commodity Statistics (Form QCS).

Form Number: None.

Type of Review: Reinstatement, without change, of a previously approved collection for which OMB control number has expired.

Respondents: Class I railroads.

Number of Respondents: Fewer than 10.

Estimated Time per Response: 217 hours.

Frequency of Response: Quarterly, with an annual summation.

Total Annual Hour Burden: 6,076 hours annually.

Total Annual “Non-Hour Burden” Cost: No “non-hour cost” burdens associated with this collection have been identified.

Needs and Uses: This collection, which is based on information contained in waybills used by railroads in the ordinary course of business, reports car loadings and total revenues by commodity code for each commodity that moved on the railroad during the reporting period. See 49 CFR 1248. Information in this report is entered into the Board's URCS, the uses of which are explained under Collection Number 1. There is no other source for the information contained in this report.

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: November 8, 2005.
Vernon A. Williams,
Secretary.

[FR Doc. 05-22540 Filed 11-10-05; 8:45 am]

BILLING CODE 4915-01-P